DEPARTMENT OF COMMERCE

National Oceanic and Atmospheric Administration

RIN 0648-XH057

Mid-Atlantic Fishery Management Council (MAFMC); Public Meeting

AGENCY: National Marine Fisheries Service (NMFS), National Oceanic and Atmospheric Administration (NOAA), Commerce.

ACTION: Notice; public meeting.

SUMMARY: The Northeast Trawl Advisory Panel (NTAP) of the Mid-Atlantic Fishery Management Council will hold a meeting.

DATES: The meeting will be held on Friday, June 21, 2019, beginning at 9 a.m. and conclude by 4 p.m. For agenda details, see SUPPLEMENTARY INFORMATION.

ADDRESSES: The meeting will be held at the Northeast Fisheries Science Center office located on 28 Tarzwell Dr., Narragansett, RI 02882 and available via webinar (http://www.mafmc.org/ntap).

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this meeting is to: (1) Conduct new member introductions; discuss (2) the F/V Karen Elizabeth gear performance study plan review; (3) updates on the flume tank experiment; (4) updates of door testing on the NOAA Bigelow; (5) additional gear performance funds; and 6) long term NTAP plans and other business.

Special Accommodations

The meeting is physically accessible to people with disabilities. Requests for sign language interpretation or other auxiliary aid should be directed to M. Jan Saunders, (302) 526-5251, at least 5 days prior to any meeting date.

Dated: May 31, 2019.
Rey Israel Marquez,
Acting Deputy Director, Office of Sustainable Fisheries, National Marine Fisheries Service.

[FR Doc. 2019-11737 Filed 6-4-19; 8:45 am]

BILLING CODE 3510-22-P